DEPARTMENT OF COMMERCE

International Trade Administration

[A-533-813]

Certain Preserved Mushrooms From India: Notice of Extension of Time Limit for Antidumping Duty Administrative Review

AGENCY: Import Administration, International Trade Administration, United States Department of Commerce.

EFFECTIVE DATE: March 26, 2001.

FOR FURTHER INFORMATION CONTACT: David J. Goldberger, Kate Johnson, or Dinah McDougall at (202) 482-4136, (202) 482-4929, or (202) 482-3773, respectively, Office of AD/CVD Enforcement, Import Administration, International Trade Administration, U.S. Department of Commerce, 14th Street and Constitution Avenue, NW., Washington, DC, 20230.

Postponement of Final Results of Administrative Review

The Department of Commerce (“the Department”) published the preliminary results of the administrative review of the antidumping duty order on Certain Preserved Mushrooms from India on March 8, 2001 (66 FR 13896). The current deadline for the final results in this review is July 6, 2001. In accordance with section 751(a)(3)(A) of the Tariff Act of 1930 (“the Act”), as amended, the Department finds that it is not practicable to complete this administrative review within the original time frame due to the fact that one of the verifications was not completed until shortly before the preliminary results and the verification report was not released until after the preliminary results. In addition, one of the respondents retained new counsel and has requested additional time to prepare for the final arguments in this review. Thus, the Department is extending the time limit for completion of the final results until August 6, 2001, which is 151 days after the date on which notice of the preliminary results was published in the Federal Register.

Dated: March 19, 2001.
Richard W. Moreland,
Deputy Assistant Secretary for Import Administration.

[FR Doc. 01-7406 Filed 3-23-01; 8:45 am]

BILLING CODE 3510-DS-P